DEPARTMENT OF COMMERCE

National Oceanic and Atmospheric Administration

Agency Information Collection Activities; Submission to the Office of Management and Budget (OMB) for Review and Approval; Comment Request; Recreational Angler Survey of Sea Turtle Interactions

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 19, 2021 during a 60-day comment period. This notice allows for an additional 30 days for public comments.

Agency: National Oceanic & Atmospheric Administration (NOAA), Commerce.

Title: Recreational Angler Survey of Sea Turtle Interactions.

OMB Control Number: 0648-0774.

Form Number(s): None.

Type of Request: Regular (extension of a current information collection).

Number of Respondents: 20,000.

Average Time per Response: 10 minutes for the Angler Intercept Survey, 5 minutes for the Sea Turtle Incidental Capture Form.

Total Annual Burden Hours: 1,153 hours.

Needs and Uses: NOAA's National Marine Fisheries Service (NOAA Fisheries) proposes to extend a current information collection designed to assess the extent of hook and line interactions between recreational anglers on piers and other shore-based fishing locations and sea turtles. The collection comprises an Angler Intercept Survey, a Fishing Site Characterization Form, a Survey Cover Sheet, and a Sea Turtle Incidental Capture Form. The Angler Intercept Survey will be verbally administered on piers and shore-based fishing locations within NOAA Fisheries Greater Atlantic Region and Southeast Region, and will be administered to approximately 20,000 individual recreational fishermen. The respondents will be verbally asked a series of questions about their fishing practices and observations of sea turtles and the interviewer will record their answers. The survey will also assess the feasibility of an intercept survey for this purpose in terms of response rates and data collection. The Fishing Site Characterization Form will be completed by the survey administrator at each fishing location and collects information on the structure and operation of the pier or shore-based fishing location. The Site Characterization Sheet will be completed by the survey administrator during each survey period and collects information on the environmental conditions for that particular day, the number of anglers fishing, number of lines in the water, and the number of surveys completed. Sea Turtle Incidental Capture Form will be filled out by a Sea Turtle Stranding and Salvage Network participant when a turtle is incidentally captured, regardless of if the capture occurs during a specific survey period, and collects information on the specific interaction with fishing gear. This information is necessary to compare to the angler survey data, to identify if certain factors or fishing practices influence the rate of interactions. In this extension, minor revisions will be made to the Sea Turtle Incidental Capture Form to eliminate duplication with other sea turtle stranding data collection efforts.

Affected Public: Individuals or households.

Frequency: Once.

Respondent's Obligation: Voluntary.

Legal Authority: Collection of these data on sea turtle interactions in the shore-based recreational fishing sector is necessary to fulfill statutory requirements of the Endangered Species Act (16 U.S.C. 1531 et. seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0774.

Sheleen Dumas,
Department PRA Clearance Officer, Office of the Chief Information Officer, Commerce Department.

[FR Doc. 2021-25313 Filed 11-18-21; 8:45 am]

BILLING CODE 3510-22-P